DEPARTMENT OF THE INTERIOR

Bureau of Indian Affairs

Proposed Agency Information Collection Activities; Comment Request

AGENCY: Bureau of Indian Affairs, Interior.

ACTION: Notification of emergency clearance and request for comments.

SUMMARY: In compliance with the Paperwork Reduction Act of 1995, this notice announces that the Office of Management and Budget (OMB) approved an information collection request for emergency clearance under 5 CFR 1320.13. The information collection, Data Elements for Student Enrollment in Bureau-funded Schools, is cleared under OMB Control Number 1076-0122 through June 30, 2002. We are now seeking comments from interested parties to renew the clearance.

DATES: Written comments must be received by April 8, 2002.

ADDRESSES: Written comments should be sent to: William Mehojah, Director, Office of Indian Education Programs, Bureau of Indian Affairs, 1849 C Street, NW., Mail Stop 3512-MIB, Washington, DC 20240. You may send requests by facsimile to 202-208-3312.

FOR FURTHER INFORMATION CONTACT: Glenn Allison, 202-208-3628 (This is not a toll-free number). Copies of this information collection document will be sent to you, free of charge, when you call and request them.

SUPPLEMENTARY INFORMATION: The Secretary of the Interior, through the Bureau of Indian Affairs, is required to provide educational services to federally recognized Indians and Alaskan natives. Beginning with the Snyder Act and continuing with Public Laws 93-638, 95-561, 100-297, and 103-382, Congress has enacted legislation to ensure Indians receive educational opportunities. The data elements for enrollment information collected is for attendance in elementary and secondary schools operated and funded by the Bureau of Indian Affairs and to address the criteria for attendance that was changed by the passage of Public Law 99-228. This act allows for the tuition free attendance of any Indian student who is a member of a federally recognized tribe or is ¼ degree blood quantum descendant of a member of such tribes, as well as for dependents of Bureau, Indian Health Service or tribal government employees who live on or near the school site.

You are asked to comment on the necessity of the information collection to fulfill the functions of the bureau; whether the burden estimate is accurate and the methodology and assumptions are valid; the utility, quality, and clarity of information requested; and ways that the burden might be minimized for respondents.

Please note that an agency may not sponsor or request, and a person is not required to respond to, a collection of information, unless a valid OMB Control Number is displayed. Comments are available for public review 14 days after the Federal Register notice is published. If you wish us to withhold your name and/or address, you must state this prominently at the beginning of your comments. We will honor your request to the extent allowed by law.

Title: Data Elements for Student Enrollment in Bureau-funded Schools.

Description: Information necessary to enroll students; information is provided to obtain or retain a benefit, specifically education.

OMB Control Number: 1076-0122.

Respondents: 48,000.

Burden: 15 minutes each to complete, total: 12,000 hours.

Dated: January 29, 2002.
Neal A. McCaleb,
Assistant Secretary—Indian Affairs.

[FR Doc. 02-2952 Filed 2-6-02; 8:45 am]

BILLING CODE 4310-6W-P